DEPARTMENT OF HOMELAND SECURITY

Coast Guard

33 CFR Part 117

[Docket No. USCG-2010-0414]

Drawbridge Operation Regulations; Root River, Racine, WI

AGENCY: Coast Guard, DHS.

ACTION: Notice of temporary deviation from regulations.

SUMMARY: Commander, Ninth Coast Guard District, has issued a temporary deviation from the regulation governing the operation of the Main Street Bridge at Mile 0.31 and the State Street Bridge at Mile 0.53 over the Root River, at Racine, WI. This deviation will temporarily change the operating schedule of the bridge to accommodate the City's special summer events for 2010. This temporary deviation allows the bridge to remain secured to masted navigation on the dates and times listed.

DATES: This deviation is effective on June 19, 2010 from 7:40 a.m. to 10:40 a.m. for the Main Street Bridge and on July 5, 2010 and July 6, 2010 from 7 a.m. to 12:30 p.m. and 8:05 p.m. to 9:40 p.m. each day for the Main and State Street bridges.

ADDRESSES: Documents mentioned in this preamble as being available in the docket are part of docket USCG-2010-0414 and are available online by going to http://www.regulations.gov, inserting USCG-2010-0414 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Lee D. Soule, Bridge Management Specialist, Ninth Coast Guard District; telephone 216-902-6085, e-mail; lee.d.soule@uscg.mil. If you have questions on viewing the docket, call Renee V. Wright, Program Manager, Docket Operations, telephone 202-366-9826.

SUPPLEMENTARY INFORMATION: The City of Racine, Wisconsin, who owns and operates both drawbridges, has requested a temporary deviation from the current operating regulations set forth in 33 CFR 117.1095 to facilitate efficient management of all transportation needs and provide timely public safety services during these special events. In accordance with 33 CFR 117.35(e), the drawbridge must return to its regular operating schedule immediately at the end of the designated time periods. These deviations from the operating regulations are authorized under 33 CFR 117.35.

Dated: May 13, 2010.
F.M. Midgette,
Acting Captain, Commander, Ninth Coast Guard District, U.S. Coast Guard.

[FR Doc. 2010-12981 Filed 5-28-10; 8:45 am]

BILLING CODE 9110-04-P